DEPARTMENT OF ENERGY

Western Area Power Administration

Pacific Northwest-Pacific Southwest Intertie Project—Rate Order No. WAPA-159

AGENCY: Western Area Power Administration, DOE.

ACTION: Notice of Order Temporarily Extending Transmission Service Rates.

SUMMARY: This action is to extend the existing Pacific Northwest-Pacific Southwest Intertie Project (Intertie) transmission services rates through September 30, 2013. The existing rates under Rate Schedules INT-FT4 and INT-NFT3 are set to expire September 30, 2012.

FOR FURTHER INFORMATION CONTACT: Mr. Jack Murray, Rates Manager, Desert Southwest Customer Service Regional Office, Western Area Power Administration, P.O. Box 6457, Phoenix, AZ 85005-6457, email jmurray@wapa.gov.

SUPPLEMENTARY INFORMATION: Rate Schedules INT-FT4 and INT-NFT3 for Rate Order No. WAPA-130 were approved by the Federal Energy Regulatory Commission (FERC) for a 5-year period through September 30, 2012.¹ Western Area Power Administration (Western) is proposing to extend the existing rates under Rate Schedules INT-FT4 and INT-NFT3 pursuant to 10 CFR 903.23(b). Extending these rate schedules through September 30, 2013, will provide time for Western to complete an on-going rate adjustment process. Western initiated a public process to adjust the Intertie transmission service rates via publication of a Federal Register notice on June 11, 2012 (77 FR 34381). Western is extending the existing transmission service rates to allow sufficient time to evaluate comments and determine if modifications to the proposed rates are warranted.

¹ WAPA-130 was approved by FERC on a final basis on March 18, 2008, in Docket No. EF08-5191-000 (122 FERC ¶ 62,236).

By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand, or to disapprove such rates to FERC.

Western did not have a consultation and comment period and did not hold public information and comment forums for this extension, in accordance with 10 CFR 903.23(b). Following review of Western's proposal with DOE, I hereby approve Rate Order No. WAPA-159, which temporarily extends Rate Schedules INT-FT4 and INT-NFT3 for Intertie transmission service through September 30, 2013.

Dated: August 27, 2012.
Daniel B. Poneman,
Deputy Secretary.

Department of Energy

Deputy Secretary

In the Matter of: Western Area Power Administration, Rate Extension for the Pacific Northwest-Pacific Southwest Intertie Project, Transmission Services Rates; Rate Order No. WAPA-159; Order Confirming and Approving a Temporary Extension of the Pacific Northwest-Pacific Southwest Intertie Project Transmission Service Rates

Section 302(a) of the Department of Energy (DOE) Organization Act (42 U.S.C. 7152) transferred to and vested in the Secretary of Energy the power marketing functions of the Secretary of the Department of the Interior and the Bureau of Reclamation under the Reclamation Act of 1902 (ch. 1093, 32 Stat. 388), as amended and supplemented by subsequent laws, particularly section 9(c) of the Reclamation Project Act of 1939 (43 U.S.C. 485h(c)), and other acts that specifically apply to the project involved.

By Delegation Order No. 00-037.00, effective December 6, 2001, the Secretary of Energy delegated: (1) The authority to develop power and transmission rates to the Administrator of the Western Area Power Administration (Western); (2) the authority to confirm, approve, and place such rates into effect on an interim basis to the Deputy Secretary of Energy; and (3) the authority to confirm, approve, and place into effect on a final basis, to remand, or to disapprove such rates to the Federal Energy Regulatory Commission (FERC). This rate extension is issued pursuant to the Delegation Order and DOE rate extension procedures at 10 CFR part 903.23(b).

Background

Rate Schedules INT-FT4 and INT-NFT3 for Rate Order No. WAPA-130 were approved for a 5-year period through September 30, 2012. FERC confirmed Rate Order No. WAPA-130 on a final basis on March 18, 2008, in Docket No. EF08-5191-000 (122 FERC ¶ 62,236).

Discussion

Western proposes to extend the existing rates under Rate Schedules INT-FT4 and INT-NFT3 pursuant to 10 CFR 903.23(b). The existing rates under Rate Schedules INT-FT4 and INT-NFT3 expire September 30, 2012. This temporary extension ensures these rates will remain effective until September 30, 2013, or until the rate schedules are superseded.

Western has initiated a formal process to adjust the transmission service rates via publication of a Federal Register notice on June 11, 2012 (77 FR 34381). The consultation and comment period will end September 10, 2012. Since the existing transmission service rates will expire on September 30, 2012, Western is extending the existing rates to allow sufficient time to evaluate comments and decide whether to revise the proposed rates.

Western did not have a consultation and comment period and did not hold public information and comment forums for this extension, in accordance with 10 CFR 903.23(b).

[FR Doc. 2012-21806 Filed 9-4-12; 8:45 am]

BILLING CODE 6450-01-P